DEPARTMENT OF STATE

[Public Notice 5380]

Determination Related to the Participation of the Magen David Adom Society of Israel in the Activities of the International Red Cross and Red Crescent Movement

Pursuant to the requirements contained in the FY 2006 Foreign Operations, Export Financing and Related Programs Appropriations Act (Pub. L. 109-102), under the heading of Migration and Refugee Assistance, I hereby determine that the Magen David Adom Society of Israel is not being denied participation in the activities of the International Red Cross and Red Crescent Movement.

This Determination shall be published in the Federal Register and copies shall be provided to the appropriate committees of Congress.

Dated: April 14, 2006.
Condoleezza Rice,
Secretary of State, Department of State.

[FR Doc. E6-6107 Filed 4-21-06; 8:45 am]

BILLING CODE 4710-33-P